Title 3—

The President

Proclamation 7635 of December 16, 2002

Wright Brothers Day, 2002

By the President of the United States of America

Throughout our Nation's history, Americans have contributed to important technological breakthroughs that have improved the quality of life for countless individuals. On December 17, 1903, near Kitty Hawk, North Carolina, Orville and Wilbur Wright achieved the first successfully sustained and controlled flight with a heavier-than-air, engine-powered aircraft. In the 99 years since that revolutionary event, mankind has flown across oceans, broken the sound barrier, launched satellites, and landed on the moon. On Wright Brothers Day, we celebrate the vision and determination of these innovators whose remarkable achievements changed the world forever.

The first successful powered flight on the morning of December 17, 1903, lasted only 12 seconds and spanned approximately 120 feet; but the Wright brothers' ideas and design led to countless advances in aviation. Between 1899 and 1905, they constructed a total of seven aircraft, and through this extensive research and experimentation, Orville and Wilbur Wright established the foundation of modern aeronautics.

The airplane has played a critical role in improving our national defense, our economy, and our Nation. It has enabled trade to thrive, strengthened our economic security, and fostered friendship and goodwill throughout the world. Today, Americans rely on airplanes to deliver emergency treatment to the sick or injured, bring families together, and link us to every corner of the globe.

The United States remains committed to supporting progress in technology that secures air travel, enhances our national defense, and ensures the success and prosperity of our country. Inspired by the extraordinary accomplishments of the Wright brothers, our Nation will continue to explore new ideas, improve technology, and work for a brighter future for all.

The Congress, by a joint resolution approved December 17, 1963 (77 Stat. 402; 36 U.S.C. 143) as amended, has designated December 17 of each year as “Wright Brothers Day” and has authorized and requested the President to issue annually a proclamation inviting the people of the United States to observe that day with appropriate ceremonies and activities.

NOW, THEREFORE, I, GEORGE W. BUSH, President of the United States of America, do hereby proclaim December 17, 2002, as Wright Brothers Day. Through their courage and willingness to take risks, the Wright brothers reflect the true American character.

IN WITNESS WHEREOF, I have hereunto set my hand this sixteenth day of December, in the year of our Lord two thousand two, and of the Independence of the United States of America the two hundred and twenty-seventh.

B

[FR Doc. 02-32196

Filed 12-18-02; 8:45 am]

Billing code 3195-01-P